DEPARTMENT OF TRANSPORTATION

Federal Aviation Administration

14 CFR Part 39

[Docket No. FAA-2021-500; Project Identifier 2017-SW-069-AD]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model EC130B4 and EC130T2 helicopters. This proposed AD was prompted by a report of a jammed pilot collective pitch lever (collective). This proposed AD would require inspecting the collective for proper engagement of the locking pin. The FAA is proposing this AD to address the unsafe condition on these products.

DATES: The FAA must receive comments on this proposed AD by August 23, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this NPRM, contact Airbus Helicopters, 2701 North Forum Drive, Grand Prairie, TX 75052; telephone (972) 641-0000 or (800) 232-0323; fax (972) 641-3775; or at https://www.airbus.com/helicopters/services/technical-support.html. You may view the referenced service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-500; or in person at Docket Operations between 9 a.m. and 5 p.m., Monday through Friday, except Federal holidays. The AD docket contains this NPRM, the European Aviation Safety Agency (now European Union Aviation Safety Agency) (EASA) AD, any comments received, and other information. The street address for Docket Operations is listed above.

FOR FURTHER INFORMATION CONTACT: Anthony Kenward, Aviation Safety Engineer, Fort Worth ACO Branch, Compliance & Airworthiness Division, FAA, 10101 Hillwood Pkwy., Fort Worth, TX 76177; telephone (817) 222-5152; email anthony.kenward@faa.gov.

SUPPLEMENTARY INFORMATION:

Comments Invited

The FAA invites you to send any written relevant data, views, or arguments about this proposal. Send your comments to an address listed under ADDRESSES. Include “Docket No. FAA-2021-500; Project Identifier 2017-SW-069-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Anthony Kenward, Aviation Safety Engineer, Fort Worth ACO Branch, Compliance & Airworthiness Division, FAA, 10101 Hillwood Pkwy., Fort Worth, TX 76177; telephone (817) 222-5152; email anthony.kenward@faa.gov. Any commentary that the FAA receives which is not specifically designated as CBI will be placed in the public docket for this rulemaking.

Background

EASA, which is the Technical Agent for the Member States of the European Union, has issued EASA AD 2017-0062, dated April 11, 2017 (EASA AD 2017-0062), to correct an unsafe condition for Airbus Helicopters Model EC130B4 and EC130T2 helicopters. EASA states that during an autorotation test conducted during an acceptance flight, the pilot felt a jamming sensation when pushing the collective to the low pitch position, and he subsequently was able to free the collective by pulling on it. According to EASA, an analysis determined that the locking tab hook (hook) and the low pitch locking pin (pin) were extremely close, and that a fold in the control lever boot may have become caught between the two components. EASA states that this condition, if not detected and corrected, could result in an untimely locking of the collective and subsequent reduced control of the helicopter.

Accordingly, EASA AD 2017-0062 requires inspecting and adjusting, if necessary, the clearance between the hook and the pin while in the low pitch position.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of these same type designs.

Related Service Information Under 1 CFR Part 51

The FAA reviewed Airbus Helicopters Alert Service Bulletin ASB No. EC130-67A019, Revision 0, dated February 23, 2016, which specifies inspecting and adjusting the clearance between the hook and pin.

This service information is reasonably available because the interested parties have access to it through their normal course of business or by the means identified in the ADDRESSES section.

Proposed AD Requirements in This NPRM

This proposed AD would require, within 90 hours time-in-service (TIS) after the effective date of the AD, or before the next autorotation training flight, whichever occurs first, removing the protective boot along the collective and measuring the clearance between the hook and pin. If the clearance is less than 5 mm (0.196 in), adjusting the clearance between the hook and the pin to prevent interference would be required. This proposed AD would then require re-installing the protective boot in accordance with the manufacturer's service information.

Differences Between This Proposed AD and the EASA AD

The EASA AD requires compliance within 165 hours TIS or 3 months, whichever occurs first. Since the unsafe condition occurred at a collective position commanded during an autorotation, this proposed AD would require compliance within 90 hours TIS after the effective date of this AD or before the next autorotation training flight, whichever occurs first. Based on the average fleet usage, 90 hours TIS would correspond with the 3-month compliance requirement of the EASA AD.

Costs of Compliance

The FAA estimates that this proposed AD would affect 214 helicopters of U.S. Registry. At an average labor rate of $85 per work-hour, the FAA estimates that operators may incur the following costs in order to comply with this proposed AD. Removing the protective boot would require about 2 work-hours for a cost of $170 per helicopter and a cost of $36,380 for the U.S. fleet. Determining the clearance between the hook and pin would require about 0.5 work-hour, for a cost of $43 per helicopter and a cost of $9,202 for the U.S. fleet. If required, adjusting the clearance would take about 2 work-hours for a cost of $170 per helicopter. Re-installing the protective boot would require about 2 work-hours, for a cost of $170 per helicopter and a cost of $36,380 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2021-500; Project Identifier 2017-SW-069-AD.

(a) Comments Due Date

The FAA must receive comments on this airworthiness directive (AD) by August 23, 2021.

(b) Affected ADs

None.

(c) Applicability

This AD applies to Airbus Helicopters Model EC130B4 and Model EC130T2 helicopters, certificated in any category.

(d) Subject

Joint Aircraft Service Component (JASC) Code: 6700, Rotorcraft Flight Control.

(e) Unsafe Condition

This AD was prompted by a report of a jammed pilot collective pitch lever (collective). The FAA is issuing this AD to prevent an untimely locking of the collective and subsequent reduced control of the helicopter.

(f) Compliance

Comply with this AD within the compliance times specified, unless already done.

(g) Required Actions

Within 90 hours time-in-service after the effective date of this AD or before the next autorotation training flight, whichever occurs first:

(1) For each collective, remove the protective boot along the collective and measure the clearance between the edge of the collective tab hook (a) and the edge of the low pitch locking pin (b) as shown in Figure 1 of Airbus Helicopters Alert Service Bulletin ASB No. EC130-67A019, Revision 0, dated February 23, 2016 (ASB EC130-67A019). If the clearance is less than 5 mm (0.196 in), before further flight:

(i) Adjust the clearance by following the Accomplishment Instructions, paragraph 3.B.3., of ASB EC130-67A019.

(ii) Test the collective for proper engagement of the low pitch locking pin by following the Accomplishment Instructions, paragraph 3.B.4., of ASB EC130-67A019.

(2) Re-install the protective boot on the collective, ensuring that no boot folds have entered the space between the collective tab hook and the low pitch locking pin, by following the Accomplishment Instructions, paragraph 3.B.5., of ASB EC130-67A019.

(h) Special Flight Permits

Special flight permits are prohibited.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Anthony Kenward, Aviation Safety Engineer, Fort Worth ACO Branch, Compliance & Airworthiness Division, FAA, 10101 Hillwood Pkwy., Fort Worth, TX 76177; telephone (817) 222-5152; email anthony.kenward@faa.gov.

(2) For service information identified in this AD, contact Airbus Helicopters, 2701 North Forum Drive, Grand Prairie, TX 75052; telephone (972) 641-0000 or (800) 232-0323; fax (972) 641-3775; or at https://www.airbus.com/helicopters/services/technical-support.html. You may view this referenced service information at the FAA, Office of the Regional Counsel, Southwest Region, 10101 Hillwood Pkwy., Room 6N-321, Fort Worth, TX 76177. For information on the availability of this material at the FAA, call (817) 222-5110.

(3) The subject of this AD is addressed in European Aviation Safety Agency (now European Union Aviation Safety Agency) (EASA) AD 2017-0062, dated April 11, 2017. You may view the EASA AD at http://www.regulations.gov in the AD Docket FAA-2021-500.

Issued on June 10, 2021.
Lance T. Gant,
Director, Compliance & Airworthiness Division, Aircraft Certification Service.

[FR Doc. 2021-14399 Filed 7-6-21; 8:45 am]

BILLING CODE 4910-13-P